DEPARTMENT OF THE INTERIOR

Fish and Wildlife Service

[FWS-HQ-ES-2018-N112; FXES11130100000C4-189-FF02ENEH00]

Endangered and Threatened Wildlife and Plants; 26 Draft Recovery Plan Amendments for 42 Species Across the United States

Correction

In notice document 2019-00436 appearing on pages 790-795 in the issue of Thursday, January 31, 2019, make the following correction:

Beginning on page 792, the table “Proposed Recovery Plan Amendments,” is being republished to correct the URL addresses in the sixth column:

Proposed Recovery Plan Amendments
Common name | Scientific name | Listing status ¹ | Current range | Recovery plan name | Uniform resource locator to proposed recovery plan amendment | Contact person, phone, email | Contact person's U.S. mail address
Pacific Region (Idaho, Oregon, Washington, Hawaii, and the Pacific Islands)
Snails, Oahu tree Silversword, Mauna Loa (=Ka`u) | Achatinella spp. Argyroxiphium kauense | E T | HI HI | Recovery Plan for the Oahu Tree Snails of the Genus Achatinella Recovery Plan for the Ka`u Silversword (Argyroxiphium kauense) | https://ecos.fws.gov/docs/recovery_plan/Achatinella_Draft%20Recovery%20Plan%20Amendment_20180801.pdf https://ecos.fws.gov/docs/recovery_plan/ARGKAU_Draft%20Recovery%20Plan%20Amendment_20180801.pdf | Gregory A. Koob, Assistant Field Supervisor, 808-792-9449, gregory_koob@fws.gov | Pacific Islands Fish and Wildlife Office, 300 Ala Moana Boulevard, Room 3-122, Box 50088, Honolulu, HI 96850.
`Ahinahina | Argyroxiphium sandwicense ssp. sandwicense | E | HI | Recovery Plan for the Mauna Kea Silversword (Argyroxiphium sandwicense ssp. sandwicense) | https://ecos.fws.gov/docs/recovery_plan/ARGSANSAN_Draft%20Recovery%20Plan%20Amendment_20180801.pdf |  |
Koki`o | Kokia drynarioides | E | HI | Recovery Plan for Caesalpinia kavaiensis and Kokia drynarioides | https://ecos.fws.gov/docs/recovery_plan/KOKDRY_Draft%20Recovery%20Plan%20Amendment_20180801.pdf |  |
Uhi uhi | Mezoneuron kavaiense | E | HI |  | https://ecos.fws.gov/docs/recovery_plan/MEZKAV_Draft%20Recovery%20Plan%20Amendment_20180801.pdf
Aupaka | Isodendrion hosakae | E | HI | Recovery Plan for Lipochaeta venosa and Isodendrion hosakae | https://ecos.fws.gov/docs/recovery_plan/ISOHOS_Draft%20Recovery%20Plan%20Amendment_20180801.pdf
No common name | Lipochaeta venosa | E | HI |  | https://ecos.fws.gov/docs/recovery_plan/LIPVEN_Draft%20Recovery%20Plan%20Amendment_20180801.pdf
Hawaiian petrel | Pterodroma sandwichensis | E | HI | Hawaiian Dark-rumped Petrel and Newell's Manx Shearwater Recovery Plan | https://ecos.fws.gov/docs/recovery_plan/HAPE_Draft_Recovery_Plan_Amendment_20180806.pdf
Newell's Townsend's shearwater | Puffinus auricularis newelli | T | HI |  | https://ecos.fws.gov/docs/recovery_plan/NESH_Draft_Recovery_Plan_Amendment_20180806.pdf
Vetch, Hawaiian | Vicia menziesii | E | HI | Vicia menziesii Recovery Plan | https://ecos.fws.gov/docs/recovery_plan/VICMEN_Draft%20Recovery%20Plan%20Amendment_20180801.pdf
Rabbit, Columbia Basin Pygmy | Brachylagus idahoensis | E | WA | Recovery Plan for the Columbia Basin Distinct Population Segment of the Pygmy Rabbit (Brachylagus idahoensis) | https://ecos.fws.gov/docs/recovery_plan/Pygmy%20Rabbit%20Draft%20Recovery%20Plan%20Amendment%2020180731.pdf | Michelle Eames, Fish and Wildlife Biologist, 509-891-6839, michelle_eames@fws.gov | Eastern Washington Field Office, 11103 E Montgomery Dr., Spokane Valley, WA 99206.
Stickseed, showy | Hackelia venusta | E | WA | Recovery Plan for Hackelia venusta (Showy Stickseed) | https://ecos.fws.gov/docs/recovery_plan/Hackelia_venusta_Draft_Recovery_Plan_Amendment_20180806.pdf | Gregg Kurz, 509-665-3508, gregg_kurz@fws.gov | Central Washington Field Office, 215 Melody Lane, Suite 103, Wenatchee, WA 98801.
Southwest Region (Arizona, New Mexico, Oklahoma, and Texas)
Brady pincushion cactus | Pediocactus bradyi | E | AZ | Brady Pincushion Cactus (Pediocactus bradyi) Recovery Plan | https://ecos.fws.gov/docs/recovery_plan/Draft%20Recovery%20Plan%20Amendment_Brady%20Pincushion_clean.pdf | Field Supervisor, 602-242-0210, AZcriteria@fws.gov | Arizona Ecological Services Field Office, 9828 North 31st Avenue, #C#, Phoenix, Arizona 85051.
Siler pincushion cactus | Pediocactus sileri | T | AZ, UT | Siler Pincushion Cactus (Pediocactus sileri) Recovery Plan | https://ecos.fws.gov/docs/recovery_plan/Draft%20Recovery%20Plan%20Amendment_Siler%20Pincushion_clean.pdf
Sacramento prickly poppy | Argemone pleiacantha ssp. pinnatisecta | E | NM | Sacramento Prickly-Poppy (Argemone pleiacantha ssp. pinnatisecta) Recovery Plan | https://ecos.fws.gov/docs/recovery_plan/20180816_Draft%20Recovery%20Plan%20Amendment_Sacramento%20prickly%20poppy_clean.pdf | Susan Millsap, Field Office Supervisor, 505-761-4781, susan_millsap@fws.gov | New Mexico Ecological Services Field Office, 2105 Osuna NE, Albuquerque, New Mexico 87113.
Lee pincushion cactus Sneed pincushion cactus | Coryphantha sneedii var. leei Coryphantha sneedii var. sneedii | T E | NM NM, TX | Sneed and Lee Pincushion Cacti (Coryphantha sneedii var. sneedii and Coryphantha sneedii var. leei) Recovery Plan | https://ecos.fws.gov/docs/recovery_plan/Draft%20Recovery%20Plan%20Amendment_SneedLee%20Pincuschion_clean.pdf | Kuenzler hedgehog cactus | Echinocereus fendleri var. kuenzleri | T | NM | Kuenzler Hedgehog Cactus (Echinocereus fendleri var. kuenzleri) Recovery Plan | https://ecos.fws.gov/docs/recovery_plan/Draft%20Recovery%20Plan%20Amendment_Kuenzler%20Hedgehog%20Cactus_clean.pdf
Zuni fleabane | Erigeron rhizomatus | T | AZ, NM | Zuni Fleabane (Erigeron rhizomatus) Recovery Plan | https://ecos.fws.gov/docs/recovery_plan/Draft%20Recovery%20Plan%20Amendment_Zuni%20Fleabane_clean.pdf
Holy Ghost ipomopsis | Ipomopsis sancti-spiritus | E | NM | Holy Ghost Ipomopsis (Ipomopsis sancti-spiritus) Recovery Plan | https://ecos.fws.gov/docs/recovery_plan/20180816_Draft%20Recovery%20Plan%20Amendment_Holy%20Ghost%20Ipomopsis_clean.pdf
Knowlton's cactus | Pediocactus knowltonii | E | CO, NM | Knowlton's Cactus (Pediocactus knowltonii) Recovery Plan | https://ecos.fws.gov/docs/recovery_plan/Draft%20Recovery%20Plan%20Amendment_Knowltons%20cactus_clean.pdf
Socorro isopod | Thermosphaeroma thermophilus | E | NM | Soccoro Isopod Recovery Plan | https://ecos.fws.gov/docs/recovery_plan/Draft%20Recovery%20Plan%20Amendment_Socorro%20Isopod_clean.pdf
Star cactus Zapata bladderpod.......... | Astrophytum asterias Lesquerella thamnophila | E E | TX TX | Star Cactus (Astrophytum asterias) Recovery Plan Zapata Bladderpod (Lesquerella thamnophila) Recovery Plan | https://ecos.fws.gov/docs/recovery_plan/Draft%20Recovery%20Plan%20Amendment_Star%20Cactus_clean.pdf https://ecos.fws.gov/docs/recovery_plan/Draft%20Rec%20Plan%20Amendment_Z%20bladderpod_clean.pdf | Dawn Gardiner, Assistant Field Supervisor, 361-994-9005x259, dawn_gardiner@fws.gov | Texas Coastal Ecological Services Field Office—Corpus Christi, 4444 Corona Drive, Suite 215, Corpus Christi, Texas 78411.
Coffin Cave mold beetle Tooth Cave spider Tooth Cave ground beetle Tooth Cave pseudoscorpion | Batrisodes texanus Neoleptoneta myopica Rhadine persephone Tartarocreagris texana | E E E E | TX TX TX TX | Endangered Karst Invertebrates (Travis and Williamson Counties, Texas) Recovery Plan | https://ecos.fws.gov/docs/recovery_plan/Draft%20Recovery%20Plan%20Amendment_Travis-Williamson-Karst-Inverts_clean.pdf | Adam Zerrenner, Field Supervisor, 512-490-0057x248, adam_zerrenner@fws.gov | Austin Ecological Services Field Office, 10711 Burnet Road, Suite 200, Austin, Texas 78758.
Kretschmarr Cave mold beetle | Texamaurops reddelli | E | TX
Bee Creek Cave harvestman | Texella reddelli | E | TX
Bone Cave harvestman | Texella reyesi | E | TX
Tobusch fishhook cactus | Sclerocactus brevihamatus ssp. tobuschii | E | TX | Tobusch Fishhook Cactus (Ancistrocactus tobuschii) Recovery Plan | https://ecos.fws.gov/docs/recovery_plan/Draft%20SCLTOB%20Recovery%20Plan%20Amendment_clean.pdf
Pacific Southwest Region (California, Nevada, and the Klamath Basin area of Oregon)
Marsh sandwort Gambel's watercress | Arenaria paludicola Rorippa gambellii | E E | CA, WA CA | Recovery Plan for Marsh Sandwort (Arenaria paludicola) and Gambel's Watercress (Rorippa gambelii) | https://ecos.fws.gov/docs/recovery_plan/Draft%20Recovery%20Plan%20Amendment%20NAGA%20ROGA.pdf | Cat Darst, Assistant Field Supervisor, 805-644-1766, r8ventura-recoverycomments@fws.gov | Ventura Fish and Wildlife Office, 2493 Portola Road, Suite B, Ventura, CA 93003.
Pismo clarkia Chorro Creek bog thistle Indian Knob mountainbalm | Clarkia speciosa ssp. immaculata Cirsium fontinale var. obispoense Eriodictyon altissimum | E E E | CA CA CA | Recovery Plan for the Morro Shoulderband Snail and Four Plants from San Luis Obispo County, California | https://ecos.fws.gov/docs/recovery_plan/Draft%20Recovery%20Plan%20Amendment%20IKMB%20CCBT%20PismoClarkia.pdf
Scotts Valley spineflower | Chorizanthe robusta var. hartwegii | E | CA | Recovery Plan for Insect and Plant Taxa from the Santa Cruz Mountains in California | https://ecos.fws.gov/docs/recovery_plan/Draft%20Recovery%20Plan%20Amendment%20ScottsValleySpineflower.pdf
Coastal dunes milk-vetch Yadon's piperia Hickman's potentilla Monterey clover | Astragalus tener var. titi Piperia yadonii Potentilla hickmanii Trifolium trichocalyx | E E E E | CA CA CA CA | Recovery Plan for Five Plants from Monterey County, California | https://ecos.fws.gov/docs/recovery_plan/Draft%20Recovery%20Plan%20Amendment%20MClover%20CDMVetch%20YAPP%20HickPot.pdf
¹ E = endangered; T = threatened.

[FR Doc. C1-2019-00436 Filed 2-4-19; 8:45 am]

BILLING CODE 1301-00-D